DEPARTMENT OF LABOR

Employment and Training Administration

[TA-W-55,061]

Prestolite Wire Corporation Including On-Site Leased Workers of Technical Associates, Tifton, GA; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on June 29, 2004, applicable to workers of Prestolite Wire Corporation, Tifton, Georgia. The notice was published in the Federal Register on August 3, 2004 (69 FR 46576).

At the request of the State agency, the Department reviewed the certification for workers of the subject firm. New information shows that leased workers of Technical Associates were employed on-site at the Tifton, Georgia location of Prestolite Wire Corporation.

Based on these findings, the Department is amending this certification to include on-site leased workers of Technical Associates working at Prestolite Wire Corporation, Tifton, Georgia.

The intent of the Department's certification is to include all workers employed at Prestolite Wire Corporation, who were adversely affected by a shift in production to Mexico.

The amended notice applicable to TA-W-55,061 is hereby issued as follows:

All workers of Prestolite Wire Corporation, including on-site leased workers of Technical Associates, Tifton, Georgia, who became totally or partially separated from employment on or after June 1, 2003, through June 29, 2006, are eligible to apply for adjustment assistance under section 223 of the Trade Act of 1974, and are also eligible to apply for alternative trade adjustment assistance under section 246 of the Trade Act of 1974.

Signed at Washington, DC this 12th day of August 2004.
Richard Church,
Certifying Officer, Division of Trade Adjustment Assistance.

[FR Doc. 04-19095 Filed 8-19-04; 8:45 am]

BILLING CODE 4510-30-P